DEPARTMENT OF TRANSPORTATION

Office of the Secretary

[Docket No. DOT-OST-2018-0204]

Air Carrier Access Act Advisory Committee

AGENCY: Office of the Secretary of Transportation (OST), U.S. Department of Transportation (DOT).

ACTION: Notice; solicitation of nominations for membership.

SUMMARY: The Department solicits nominations for membership to serve on the Air Carrier Access Act (ACAA) Advisory Committee (Committee), which reviews issues related to the air travel needs of passengers with disabilities.

DATES: The deadline for nominations for Committee members must be received on or before October 3, 2025.

ADDRESSES: All nomination materials should be submitted by one of the following methods:

• Email (preferred): ACAA-Advisory-Committee@dot.gov.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal holidays.

FOR FURTHER INFORMATION CONTACT: Tori Ford, Attorney-Advisor, Office of Aviation Consumer Protection, victoria.ford@dot.gov, 202-843-2369, or Vinh Nguyen, Senior Attorney, Office of Aviation Consumer Protection, vinh.nguyen@dot.gov, 202-697-1385.

SUPPLEMENTARY INFORMATION: On September 20, 2019, the Secretary of Transportation established the ACAA Advisory Committee in accordance with section 439 of the FAA Reauthorization Act of 2018 (2018 FAA Act) and operates it in accordance with the provisions of the Federal Advisory Committee Act, as amended, 5 U.S.C. ch. 10. Section 541 of the FAA Reauthorization Act of 2024 (2024 FAA Act) extended the statutory authorization for the Committee to September 30, 2028. The purpose of the ACAA Advisory Committee is to advise the Secretary about issues relating to the air travel needs of passengers with disabilities.

In particular, the ACAA Advisory Committee will identify and assess barriers to accessible air travel, determine the extent to which DOT is addressing those barriers, recommend improvements, and advise the Secretary on implementing the ACAA. The 2024 FAA Act requires the Committee to address the following topics: (1) lithium-ion battery powered wheelchairs; (2) service animals; (3) accessibility of websites, kiosks, and information communication technology; and (4) inflight communications. The Committee will be continuing, but subject to renewal every two years. The Committee is expected to meet at least twice annually. Unless otherwise required by law or approved by the Secretary, all meetings will be held virtually. Additional meetings and subcommittee meetings may be called as necessary.

In this notice, the Department is soliciting nominations for membership to the Committee. The Committee shall report to the Secretary through the General Counsel and shall comprise no more than 25 members, with at least one member from each of the following groups: passengers with disabilities; national disability organizations; air carriers; airport operators; contract service providers; aircraft manufacturers; manufacturers of wheelchairs, including powered wheelchairs and other mobility aids; and national veterans organizations representing disabled veterans.

Members are appointed by the Secretary of Transportation. Members will serve 2-year terms but may be reappointed. Past members of the Committee are welcome to apply. The Department is interested in ensuring membership is balanced fairly in terms of the points of view represented and the functions to be performed by the Committee.

Process and Deadline for Submitting Nominations: Qualified individuals can self-nominate or be nominated by any individual or organization. To be considered for the ACAA Advisory Committee, nominators should submit the following information:

(1) Name, title, and relevant contact information (including phone, fax, and email address) of the individual requesting consideration;

(2) A letter of support from a company, union, trade association, academic, or nonprofit organization on letterhead containing a brief description why the nominee should be considered for membership;

(3) Short biography of nominee, including professional and academic credentials; and

(4) An affirmative statement that the nominee meets all Committee eligibility requirements.

Please do not send company, trade association, or organization brochures or any other information. Materials submitted should total two pages or less. Should more information be needed, DOT staff will contact the nominee, obtain information from the nominee's past affiliations, or obtain information from publicly available sources, such as the internet.

All nomination materials must be submitted through one of the methods referenced above in the “Addresses” section. Nominations must be received before October 3, 2025. Nominees selected for appointment to the Committee will be notified by return email and by a letter of appointment.

Issued in Washington, DC.
Gregory D. Cote,
Acting General Counsel.

[FR Doc. 2025-16839 Filed 9-2-25; 8:45 am]

BILLING CODE 4910-9X-P